DEPARTMENT OF AGRICULTURE

Animal and Plant Health Inspection Service

[Docket No. APHIS-2015-0105]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of the international standard-setting activities of the World Organization for Animal Health, the Secretariat of the International Plant Protection Convention, and the North American Plant Protection Organization, and we are soliciting public comment on the standards to be considered.

ADDRESSES: You may submit comments by either of the following methods:

• Federal eRulemaking Portal: Go to http://www.regulations.gov/#!docketDetail;D=APHIS-2015-0105.

• Postal Mail/Commercial Delivery: Send your comment to Docket No. APHIS-2015-0105, Regulatory Analysis and Development, PPD, APHIS, Station 3A-03.8, 4700 River Road Unit 118, Riverdale, MD 20737-1238.

Supporting documents and any comments we receive on this docket may be viewed at http://www.regulations.gov/#!docketDetail;D=APHIS-2015-0105 or in our reading room, which is located in room 1141 of the USDA South Building, 14th Street and Independence Avenue SW., Washington, DC. Normal reading room hours are 8 a.m. to 4:30 p.m., Monday through Friday, except holidays. To be sure someone is there to help you, please call (202) 7997039 before coming.

FOR FURTHER INFORMATION CONTACT: For general information on the topics covered in this notice, contact Ms. Jessica Mahalingappa, Assistant Deputy Administrator for Trade and Capacity Building, International Services, APHIS, Room 1132, USDA South Building, 14th Street and Independence Avenue SW., Washington, DC 20250; (202) 799-7121.

For specific information regarding standard-setting activities of the World Organization for Animal Health, contact Dr. Michael David, Director, International Animal Health Standards Team, National Import Export Services, VS, APHIS, 4700 River Road Unit 33, Riverdale, MD 20737-1231; (301) 851-3302.

For specific information regarding the standard-setting activities of the International Plant Protection Convention, contact Dr. Marina Zlotina, IPPC Technical Director, International Phytosanitary Standards, PPQ, APHIS, 4700 River Road Unit 130, Riverdale, MD 20737, (301) 851-2200.

For specific information on the North American Plant Protection Organization, contact Ms. Patricia Abad, NAPPO Technical Director, International Phytosanitary Standards, PPQ, APHIS, 4700 River Road Unit 130, Riverdale, MD, 20737, (301) 851-2264.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties) regarding animal health and welfare, and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924, with the signing of an international agreement by 28 countries. It is currently composed of 180 Members, each of which is represented by a delegate who, in most cases, is the chief veterinary officer of that country or territory. The WTO has recognized the OIE as the international forum for setting animal health and welfare standards, reporting global animal disease events, and presenting guidelines and recommendations on sanitary measures relating to animal health.

The OIE facilitates intergovernmental cooperation to prevent the spread of contagious diseases in animals by sharing scientific research among its Members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Members for certain diseases, categorizes animal diseases with respect to their international significance, publishes bulletins on global disease status, and provides animal disease control guidelines to Members. Various OIE commissions and working groups undertake the development and preparation of draft standards, which are then circulated to Members for consultation (review and comment). Draft standards are revised accordingly and are then presented to the OIE World Assembly of Delegates (all the Members) during the General Session, which meets annually every May, for review and adoption. Adoption, as a general rule, is based on consensus of the OIE membership.

The next OIE General Session is scheduled for May 22 to May 27, 2016, in Paris, France. Currently, the Deputy Administrator for APHIS' Veterinary Services program is the official U.S. Delegate to the OIE. The Deputy Administrator for APHIS' Veterinary Services program intends to participate in the proceedings and will discuss or comment on APHIS' position on any standard up for adoption. Information about OIE draft Terrestrial and Aquatic Animal Health Code chapters may be found on the Internet at http://www.aphis.usda.gov/animal-health/export-animals-oie or by contacting Dr. Michael David (see FOR FURTHER INFORMATION CONTACT above).

OIE Terrestrial and Aquatic Animal Health Code Chapters and Appendices Adopted During the May 2015 General Session

More than 30 Code chapters were amended, rewritten, or newly proposed and presented for adoption at the General Session. The following Code chapters are of particular interest to the United States:

1. Glossary

Text was changed in this Code chapter for the definition of “Stamping out,” particularly the removal of the phrase that includes “in whole or in part”, which may be misinterpreted and cause confusion.

2. User's Guide

Text in this Code chapter was modified for clarity.

3. Chapter 3.2., Evaluation of Veterinary Services

Text in this Code chapter was modified for clarity and consistency.

4. Chapter 4.7., Collection and Processing of In-Vivo Derived Embryos From Livestock and Horses

Text in this Code chapter was modified for clarity.

5. Chapter 5.1., General Obligation Related to Certification

Text in this Code chapter was modified and precise definitions for standard, guideline, and recommendation will be provided by the Commission for Member Country comment.

6. Chapter 5.2., Certification Procedures

Text in this Code chapter had minor modifications for clarity.

7. Chapter 6.5., Prevention, Detection, and Control of Salmonella in Poultry *

Text in this Code chapter was modified for clarity.

8. Chapter 7.X., Animal Welfare and Dairy Cattle Production Systems

This is a new Code chapter and the text will be modified for clarity and consistency in the future as the Commission proposes changes for comment.

9. Chapter 7.10., Animal Welfare and Broiler Production

Text in this Code chapter was modified for clarity.

10. Chapter 7.5., Slaughter of Animals

Proposed text in this Code chapter was not adopted and the chapter remains as currently written.

11. Chapter 8.X., Infection With Epizootic Hemorrhagic Disease Virus

This is a new Code chapter that was adopted with minimal discussion and closely parallels the current chapter for bluetongue.

12. Chapter 15.3., Infection With Taenia Solium

This is a new Code chapter that was adopted and additional comments will be submitted on the limits of cysticerci detections per carcass and the appropriate temperature to inactivate the cysticerci.

13. Chapter 4.16., High Health Status Horse Subpopulation

This Code chapter was adopted in 2014. It presents the concept of “higher health status” horses, which by being closely monitored and tested for certain diseases should be able to move in and out of countries, where they may compete with greater ease than they would otherwise.

14. Chapter 11.4., Bovine Spongiform Encephalopathy

The text in this chapter was updated to recognize the distinction between “classical BSE” and “atypical BSE”.

15. Chapter 10.4., Infection With Avian Influenza Viruses

The text in this Code chapter was minimally modified to align it with similar text in Code Chapter 10.9. “Infection with Newcastle Disease Virus.”

The following Aquatic Manual chapters were revised and adopted, and are of particular interest to the United States:

Chapter 2.2.2. Infectious hypodermal and haematopoietic necrosis

Chapter 2.2.4. Necrotising hepatopancreatitis

Chapter 2.2.5. Taura syndrome

Chapter 2.2.8. Infection with yellow head virus

Chapter 2.4.7. Infection with Perkinsus olseni

OIE Terrestrial Animal Health Code Chapters and Appendices for Future Review

• Glossary.

• Chapter 1.1., Notification of diseases.

• Chapter 1.2., Criteria for inclusion OIE list.

• Chapter 15.1., Infection with African swine fever.

• Chapter 6.X., Salmonella in cattle.

• Chapter 11.5., Bovine tuberculosis.

• Chapter 6.9., Responsible and prudent use of antimicrobial agents in veterinary medicine.

• Chapter 11.12., Theileriosis.

• Chapter 12.10., Glanders.

• Chapter 10.5., Avian mycoplasmosis (Mycoplasma gallisepticum).

• Chapter 11.11., Lumpy skin disease.

• Chapter 4.16., High health status horse subpopulation.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and non-cultivated plants from direct or indirect injury by plant pests. Activities addressed by the IPPC include the development and establishment of international plant health standards (ISPMs), the harmonization of phytosanitary activities through emerging standards, the facilitation of the exchange of official and scientific information among countries, and the furnishing of technical assistance to developing countries that are signatories to the IPPC.

The IPPC is under the authority of the Food and Agriculture Organization (FAO), and the members of the Secretariat of the IPPC are appointed by the FAO. The IPPC is implemented by national plant protection organizations (NPPOs) in cooperation with regional plant protection organizations (RPPOs), the Commission on Phytosanitary Measures (CPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment in October 2005. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program.

Every 2 years, NPPOs and RPPOs propose topics for ISPMs, which are then prioritized and approved by the CPM. All contracting parties agree to the scope of the draft ISPM and then NPPOs and RPPOs nominate experts to draft the ISPM. The draft ISPM then enters the member consultation stage, in which countries submit comments. The comments are incorporated and the draft ISPM is presented for the final member consultation stage, and is then adopted by the CPM. On average, this process takes 5 to 7 years. More detailed information on the standard setting process can be found on the IPPC Web site.¹

¹ IPPC Standard Setting procedure: https://www.ippc.int/core-activities/standards-setting.

Each member country is represented on the CPM by a single delegate. Although experts and advisors may accompany the delegate to meetings of the CPM, only the delegate (or an authorized alternate) may represent each member country in considering a standard proposed for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee, Capacity Development Committee, and the CPM Bureau. In addition, documents and positions developed by APHIS and NAPPO have been sources of significant input for many of the standards adopted to date. This notice describes each of the IPPC standards currently under consideration or up for adoption. Interested individuals may review the standards ² and submit comments to Dr. Marina Zlotina (see FOR FURTHER INFORMATION CONTACT above).

² Draft ISPMs submitted for member consultation: https://www.ippc.int/core-activities/standards-setting/member-consultation-draft-ispms. Draft ISPMs submitted for substantial concerns commenting period: https://www.ippc.int/core-activities/standards-setting/substantial-concerns-commenting-period-sccp-draft-ispms. Draft ISPMs submitted for adoption: https://www.ippc.int/core-activities/standards-setting/formal-objections-draft-ispms-14-days-prior-cpm.

The 10th Session of the CPM took place from March 16 to 20, 2015, at FAO Headquarters in Rome, Italy. The Deputy Administrator for APHIS' PPQ program was the U.S. delegate to the CPM. The Deputy Administrator participated in the proceedings and discussed or commented on APHIS' position on any standards up for adoption.

The following standards were adopted by the CPM at its 2015 meeting. The United States participated in consideration of these standards. The U.S. position on each of these issues were developed prior to the CPM session and were based on APHIS' analysis, information from other U.S. Government agencies, and relevant scientific information from interested stakeholders:

• Annex 3 to ISPM 26 (Establishment of pest free areas for fruit flies (Tephritidae)) on Phytosanitary procedures for fruit fly (Tephritidae) management

• ISPM 5: Glossary of Phytosanitary Terms

• Annexes to ISPM 28: Phytosanitary treatments

○ Cold treatment for Bactrocera tryoni on Citrus sinensis

○ Cold treatment for Bactrocera tryoni on Citrus reticulata x C. sinensis

○ Cold treatment for Bactrocera tryoni on Citrus limon

○ Irradiation for Dysmicoccus neobrevipes, Planococcus lilacinus, and Planococcus minor

• Annexes to ISPM 27: Diagnostic Protocols

○ Phyllosticta citricarpa (McAlpine) Aa on fruit

○ Xanthomonas citri subsp. citri

○ Potato spindle tuber viroid

Other APHIS key achievements from the 2015 CPM meeting were to promote the IPPC Secretariat Enhancement Evaluation study, initiate the review of the IPPC standard setting process, lead and influence the international direction on electronic certification, support the establishment of the International Year of Plant Health in 2020, and continue to support plans for an international workshop in wood packaging material (ISPM 15).

New Standard-Setting Initiatives, Including Those in Development

A number of expert working group (EWG) meetings or other technical consultations took place during 2015 on the topics listed below. These standard-setting initiatives are under development and may be considered for future adoption. APHIS intends to participate actively and fully in each of these working groups. The U.S. position on each of the topics to be addressed by these various working groups was developed prior to these working group meetings and was based on APHIS' technical analysis, information from other U.S. Government agencies, and relevant scientific information from interested stakeholders:

• EWG on the revision of ISPM 6: Guidelines for surveillance

• Technical Panel on Fruit Flies

• Technical Panel on the Glossary of Phytosanitary Terms

• Technical Panel on Diagnostic Protocols

• Technical Panel on Phytosanitary Treatments

For more detailed information on the above, contact Dr. Marina Zlotina (see FOR FURTHER INFORMATION CONTACT above).

APHIS posts links to draft standards on the Internet as they become available and provides information on the due dates for comments.³ Additional information on IPPC standards (including the standard setting process and adopted standards) is available on the IPPC Web site.⁴ For the most current information on official U.S. participation in IPPC activities, including U.S. positions on standards being considered, contact Dr. Marina Zlotina (see FOR FURTHER INFORMATION CONTACT above). Those wishing to provide comments on any of the areas of work being undertaken by the IPPC may do so at any time by responding to this notice (see ADDRESSES above) or by providing comments through Dr. Zlotina.

³ For more information on the IPPC draft ISPM member consultation: http://www.aphis.usda.gov/plant_health/international/PhytosanitaryStandards/draft_standards.shtml.

⁴ IPPC Web site: https://www.ippc.int/.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its work through priority-driven annual projects conducted by expert groups. Project results and updates are provided during the NAPPO annual meeting. The NAPPO Executive Committee issues a call for project proposals each year. Projects can include the development of positions, policies, or technical documents, or the development or revision of regional standards for phytosanitary measures (RSPMs). Projects can also include implementation of standards or other capacity building activities such as workshops. After the NAPPO region selects the projects for the year, expert groups are formed with subject matter experts from each member country, as well as representatives from key industries or commodity groups (e.g., nursery, seed, forestry, grains, potato, citrus, etc.). In the United States, draft standards are circulated to industry, States, and various government agencies for consideration and comment. The draft standards are posted on the Internet at http://www.nappo.org/. Once revisions are made, the proposal is sent to the NAPPO Working Group for technical review, and then to the Executive Committee for final approval, which is granted by consensus.

The 40th NAPPO annual meeting will be held October 31 to November 3, 2016, in Montreal, Canada. The NAPPO Executive Committee meeting will take place during that meeting. The Deputy Administrator for PPQ, or his designee, is a member of the NAPPO Executive Committee.

Below is a summary of the 2015 NAPPO work program as it relates to the ongoing development of NAPPO standards. The United States (i.e., USDA/APHIS) participates actively and fully in the NAPPO work program. The U.S. position on each topic is guided and informed by the best scientific information available on each of these topics. For each of the following topics, the United States considered its position on any draft standard after it reviewed a prepared draft. Information regarding the following NAPPO projects, assignments, activities, and updates on meeting times and locations may be obtained from the NAPPO homepage at http://www.nappo.org or by contacting Ms. Patricia Abad (see FOR FURTHER INFORMATION CONTACT above). Additional information on the 2016 work program, once determined, will also be available on the NAPPO Web site.

The following are the projects from the 2015 work program that were actively worked on:

1. Biological Control: The Biological Control Expert Group organized a workshop in July 2015 to provide training on preparing a petition for first release of an entomophagous biological control agent according to requirements outlined in RSPM 12, “Guidelines for petition for first release of non-indigenous entomophagous biological control agents.” It also finalized the revision of the following standards based on country comments: RSPM 7 (2008), “Guidelines for petition for first release of non-indigenous phytophagous biological control agents”; RSPM 12 (2008), “Guidelines for petition for first release of non-indigenous entomophagous biological control agents”; and RSPM 29 (2008), “Guidelines for the petition for import and release of non-Apis pollinating insects into NAPPO countries.” Finally, the Expert Group revised RSPM 26 (2012), “Certification of commercial arthropod biological control agents moving into NAPPO member countries, including the addition of non-Apis pollinators.”

2. Citrus: The Citrus Expert Group used country comments to finalize a document on recommended measures for the establishment and maintenance of area wide management programs for Huanglongbing and its vector. The Expert Group also reviewed and integrated comments from country consultation on the template for identifying new and emerging quarantine pests as well as on its application to Citrus leprosis virus. It also revised the treatment protocols for TP 01 (2009), Thermotherapy, and TP 02 (2009), Shoot-tip micro-grafting.

3. Electronic Certification: The Electronic Certification Expert Group continued to provide input to the IPPC Steering Group, especially to help address mechanisms of exchange, security, and secure transmission of data and the standardization of data.

4. Forestry: The Forestry area consisted of four Expert Groups: The Forestry Systems Expert Group finalized a specification for a possible standard on the potential use of systems approaches to manage pest risks associated with the movement of wood, based on country comments. The ISPM 15 Expert Group began preparations for a multi-region conference on ISPM 15 implementation, following the recommendation that came out of the NAPPO-Asia Pacific Plant Protection Commission workshop. The Asian Gypsy Moth (AGM) Expert Group revised RSPM 33 (2009), “Guidelines for regulating the movement of ships and cargo from areas infested with the Asian gypsy moth.” In November 2015, the AGM Expert Group also organized a training workshop for further development and implementation of an Asian gypsy moth program based on RSPM 33. Finally, the Lymantriids Expert Group continued on the development of a Science and Technology paper on the risks associated with Lymantriids of potential concern to the NAPPO region, identifying potential species and pathways of concern.

5. Fruit: The Fruit Expert Group working on trapping protocols for pests of fruit reviewed and integrated comments from country consultation on the Annex to RSPM 17 (2010), “Guidelines for development of, and efficacy verification for, lures and traps for arthropod pests of fruits.” The document was approved and accepted as a new Surveillance Protocol (SP 02): Trapping Protocols for Pests of Fruit Entering into NAPPO Member Countries.

6. Grain: The Grain Expert Group reviewed and integrated comments from country consultation of RSPM 13 (2009), “Guidelines to establish, maintain and verify Karnal Bunt pest free areas in North America.”

7. Phytosanitary Alert System: The Phytosanitary Alert System (PAS) Expert Group continued to manage the NAPPO pest reporting system and continued to review the unofficial pest alert product offered by the Phytosanitary Alert System.

8. Plants for Planting: An Expert Group on Plum Pox worked on the revision of RSPM 18 (2004), “Guidelines for phytosanitary action following detection of plum pox virus.”

9. Potato: The Potato Expert Group was tasked with revising the pest list for RSPM 3 (2011), “Guidelines for movement of potatoes into a NAPPO member country.” They were also asked to review RSPM 3 to align it with ISPM 33 (2010), “Pest free potato (Solanum spp.) micropropagative material and minitubers for international trade,” and discuss any adjustments required by NAPPO member countries.

10. Seed: The Seed Expert Group discussed the development of annexes to RSPM 36 (2013), “Phytosanitary guidelines for the movement of seed into a NAPPO member country,” to include treatments for seed borne and seed transmissible pests and to harmonize countries' import/export phytosanitary requirements. They also organized a workshop in July 2015 on needs assessment of regulatory support of the North American seed industry.

The PPQ Assistant Deputy Administrator, as the official U.S. delegate to NAPPO, participates in the adoption of these regional plant health standards, including the work described above, once they are completed and ready for such consideration.

The information in this notice contains all the information available to us on NAPPO standards under development or consideration. For updates on meeting times and for information on the expert groups that may become available following publication of this notice, go to the NAPPO Web site on the Internet at http://www.nappo.org or contact Ms. Patricia Abad (see FOR FURTHER INFORMATION CONTACT above). Information on official U.S. participation in NAPPO activities, including U.S. positions on standards being considered, may also be obtained from Ms. Abad. Those wishing to provide comments on any of the topics being addressed in the NAPPO work program may do so at any time by responding to this notice (see ADDRESSES above) or by transmitting comments through Ms. Abad.

Done in Washington, DC, this 7th day of March 2016.
Kevin Shea,
Administrator, Animal and Plant Health Inspection Service.

[FR Doc. 2016-05527 Filed 3-10-16; 8:45 am]

BILLING CODE 3410-34-P